DEPARTMENT OF DEFENSE

Office of the Secretary

[Transmittal No. 25-78]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-78 and Policy Justification.

Dated: February 4, 2026.
Stephanie J. Bost,
Alternate OSD Federal Register Liaison Officer, Department of Defense.

BILLING CODE 6001-FR-P

BILLING CODE 6001-FR-C

Transmittal No. 25-78

Notice of Proposed Issuance of Letter of Offer Pursuant to Section 36(b)(1) of the Arms Export Control Act, as amended

(i) Prospective Purchaser: Kingdom of Saudi Arabia

(ii) Total Estimated Value:

Major Defense Equipment * | $ 0
Other | $500 million
TOTAL | $500 million

Funding Source: National Funds

(iii) Description and Quantity or Quantities of Articles or Services under Consideration for Purchase:

Major Defense Equipment (MDE):

None

Non-Major Defense Equipment:

The following non-MDE items will be included: initial through advanced rotary-wing flight and maintainer training for personnel of the Royal Saudi Land Forces Aviation Corps (RSLFAC) under sponsorship of the United States (U.S.) Army Training and Doctrine Command (TRADOC). The training will be conducted by U.S. Army instructors on the AH-64E Apache, CH-47F Chinook, UH-72A Lakota, and UH-60L/M Black Hawk Helicopters.

(iv) Military Department: Army (SR-B-OTA)

(v) Prior Related Cases, if any: SR-B-OPA, SR-B-OTT, SR-B-OPF, SR-B-OPT, SR-B-OPO

(vi) Sales Commission, Fee, etc., Paid, Offered, or Agreed to be Paid: None known at this time

(vii) Sensitivity of Technology Contained in the Defense Article or Defense Services Proposed to be Sold: See Attached Annex

(viii) Date Report Delivered to Congress: December 1, 2025

* as defined in Section 47(6) of the Arms Export Control Act.

POLICY JUSTIFICATION

Kingdom of Saudi Arabia—Blanket Order Training

The Kingdom of Saudi Arabia has requested to buy blanket order aviation training services for the Royal Saudi Land Forces Aviation Corps (RSLFAC) from the U.S. Army. The following non-MDE items will be included: initial through advanced rotary-wing flight and maintainer training for personnel of the (RSLFAC) under sponsorship of the U.S. Army Training and Doctrine Command (TRADOC). The training will be conducted by U.S. Army instructors on the AH-64E Apache, CH-47F Chinook, UH-72A Lakota, and UH-60L/M Black Hawk Helicopters. The estimated total cost is $500 million.

This proposed sale will support the foreign policy and national security objectives of the U.S. by improving the security of a partner country that is a force for political stability and economic progress in the Gulf Region.

The proposed sale will enhance Saudi Arabia's capability to meet current and future threats by providing initial through advanced aviation operator and maintainer training for the safe and professional operation of the RSLFAC's U.S.-procured helicopter fleet. The Kingdom of Saudi Arabia will have no difficulty absorbing the training into its armed forces.

The proposed sale of this training will not alter the military balance in the region.

This training will be provided at various CONUS based U.S. Army training sites under sponsorship of the U.S. Army Training and Doctrine Command (TRADOC). At this time, the U.S. government is not aware of any offset agreement proposed in connection with this potential sale. Any offset agreement will be defined in negotiations between the purchaser and the contractor.

Implementation of this proposed sale will not require the assignment of any additional U.S. government or contractor representatives to the Kingdom of Saudi Arabia.

There will be no adverse impact on defense readiness as a result of this proposed sale.

[FR Doc. 2026-02401 Filed 2-5-26; 8:45 am]

BILLING CODE 6001-FR-P